DEPARTMENT OF HEALTH AND HUMAN SERVICES

Centers for Disease Control and Prevention

[30Day-07-07AD]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Formative Research to Inform an HIV Testing Social Marketing Campaign for African American Heterosexual Men—New collection—National Center for HIV/AIDS, Viral Hepatitis, STD, and TB Prevention (NCHHSTP), Coordinating Center for Infectious Diseases (CCID), Centers for Disease Control and Prevention (CDC).

Background and Brief Description

This project involves formative research to inform the development of the HIV Testing Social Marketing Campaign for African American Heterosexual Men, a CDC-sponsored social marketing campaign aimed at increasing HIV testing rates among young, single, African American men. The study entails conducting focus groups and interviews with a sample of single African American heterosexual men, ages 18 to 44, with less than 4 years of college education to: (1) Explore participants' knowledge, attitudes and beliefs about HIV and HIV testing to inform the development of campaign messages; (2) identify the most motivating approach, supporting data, and key messages for materials development; (3) test creative concepts, potential campaign themes, logos and names; and (4) test creative materials developed based on the findings from the previous phases of the research. Findings from this study will be used by CDC and its partners to inform current and future program activities.

We expect 153 participants to be screened for eligibility annually. Of the 153 participants who are screened, we anticipate that 72 will participate. The 72 participants will be divided; 36 participating in focus groups and 36 participating in interviews. Additionally, all focus group and interview participants will complete a short “Paper and Pencil” questionnaire. This is a burden hour reduction from the 60 Day Federal Register Notice which estimated the annual number of respondents at 306, with 153 participating; 81 in focus groups and 72 in interviews. There are no costs to the respondents other than their time. The total estimated annual burden hours are 146.

Estimated Annualized Burden Hours and Burden Table
Respondents | Number of respondents | Number of responses per respondent | Average burden per response (in hours)
Screener | 153 | 1 | 10/60
Focus Group | 36 | 1 | 2
Interview | 36 | 1 | 1
Paper and Pencil Survey | 72 | 1 | 10/60

Dated: September 7, 2007.
Maryam I. Daneshvar,
Acting Reports Clearance Officer, Centers for Disease Control and Prevention.

[FR Doc. E7-18231 Filed 9-14-07; 8:45 am]

BILLING CODE 4163-18-P